DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Spring 2013

AGENCY: Office of the Secretary, USDA.

ACTION: Semiannual regulatory agenda.

SUMMARY: This agenda provides summary descriptions of significant and not significant regulations being developed in agencies of the U.S. Department of Agriculture (USDA) in conformance with Executive Orders (EO) 12866 “Regulatory Planning and Review” and 13563 “Improving Regulation and Regulatory Review.” The agenda also describes regulations affecting small entities as required by section 602 of the Regulatory Flexibility Act, Public Law 96-354. This agenda also identifies regulatory actions that are being reviewed in compliance with section 610(c) of the Regulatory Flexibility Act. We invite public comment on those actions as well as any regulation consistent with Executive Order 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

FOR FURTHER INFORMATION CONTACT: For further information on any specific entry shown in this agenda, please contact the person listed for that action. For general comments or inquiries about the agenda, please contact Michael Poe, Office of Budget and Program Analysis, U.S. Department of Agriculture, Washington, DC 20250, (202) 720-3257.

Dated: April 24, 2013.
Michael Poe,
Chief, Legislative and Regulatory Staff.

Agricultural Marketing Service—Proposed Rule Stage
Sequence No. | Title | Regulation Identifier No.
1 | National Organic Program, Organic Pet Food Standards | 0581-AD20
2 | National Organic Program; Sunset Review (2012) for Sodium Nitrate | 0581-AD22

Agricultural Marketing Service—Final Rule Stage
Sequence No. | Title | Regulation Identifier No.
3 | National Organic Program: Sunset Review for Nutrient Vitamins and Minerals | 0581-AD17

Agricultural Marketing Service—Completed Actions
Sequence No. | Title | Regulation Identifier No.
4 | Mandatory Country of Origin Labeling of Beef, Pork, Lamb, Chicken, Goat Meat, Perishable Agricultural Commodities, Peanuts, Pecans, Macadamia Nuts, Ginseng, etc., LS-13-0004 | 0581-AD29

Farm Service Agency—Final Rule Stage
Sequence No. | Title | Regulation Identifier No.
5 | Farm Loan Programs, Clarification and Improvement | 0560-AI14

Farm Service Agency—Completed Actions
Sequence No. | Title | Regulation Identifier No.
6 | Microloan Operating Loans | 0560-AI17

Animal and Plant Health Inspection Service—Proposed Rule Stage
Sequence No. | Title | Regulation Identifier No.
7 | Animal Welfare: Marine Mammals; Nonconsensus Language and Interactive Programs (Rulemaking Resulting From a Section 610 Review) | 0579-AB24
8 | Scrapie in Sheep and Goats | 0579-AC92
9 | Plant Pest Regulations; Update of General Provisions | 0579-AC98
10 | Bovine Spongiform Encephalopathy and Scrapie; Importation of Small Ruminants and Their Germplasm, Products, and Byproducts | 0579-AD10
11 | Importation of Beef From a Region in Brazil | 0579-AD41
12 | Domestic Regulation of Firewood | 0579-AD49
13 | Brucellosis and Bovine Tuberculosis; Update of General Provisions | 0579-AD65
14 | Establishing a Performance Standard for Authorizing the Importation and Interstate Movement of Fruits and Vegetables | 0579-AD71

Animal and Plant Health Inspection Service—Final Rule Stage
Sequence No. | Title | Regulation Identifier No.
15 | Chronic Wasting Disease in Elk and Deer; Interstate Movement Restrictions and Payment of Indemnity | 0579-AB35
16 | Citrus Canker; Compensation for Certified Citrus Nursery Stock | 0579-AC05
17 | Introduction of Organisms and Products Altered or Produced Through Genetic Engineering | 0579-AC31
18 | Importation of Poultry and Poultry Products From Regions Affected With Highly Pathogenic Avian Influenza | 0579-AC36
19 | Bovine Spongiform Encephalopathy; Importation of Bovines and Bovine Products | 0579-AC68
20 | Lacey Act Implementation Plan; Definitions for Exempt and Regulated Articles | 0579-AD11
21 | Importation of Live Dogs | 0579-AD23
22 | Importation of Wood Packaging Material From Canada | 0579-AD28
23 | Citrus Canker, Citrus Greening, and Asian Citrus Psyllid; Interstate Movement of Regulated Nursery Stock | 0579-AD29
24 | Treatment of Firewood and Spruce Logs Imported From Canada | 0579-AD60

Animal and Plant Health Inspection Service—Completed Actions
Sequence No. | Title | Regulation Identifier No.
25 | Handling of Animals; Contingency Plans | 0579-AC69
26 | Agricultural Bioterrorism Protection Act of 2002; Biennial Review and Republication of the Select Agent and Toxin List; Amendments to the Select Agent and Toxin Regulations | 0579-AD09
27 | Animal Disease Traceability | 0579-AD24
28 | Importation of Horses From Contagious Equine Metritis-Affected Countries | 0579-AD31
29 | Importation of Sand Pears From China | 0579-AD42
30 | Plum Pox Compensation | 0579-AD58

Rural Housing Service—Final Rule Stage
Sequence No. | Title | Regulation Identifier No.
31 | Guaranteed Single-Family Housing | 0575-AC18

Food and Nutrition Service—Proposed Rule Stage
Sequence No. | Title | Regulation Identifier No.
32 | Child and Adult Care Food Program: Meal Pattern Revisions Related to the Healthy, Hunger-Free Kids Act of 2010 | 0584-AE18

Food and Nutrition Service—Final Rule Stage
Sequence No. | Title | Regulation Identifier No.
33 | National School Lunch and School Breakfast Programs: Nutrition Standards For All Foods Sold in School, as Required By the Healthy, Hunger-Free Kids Act of 2010 | 0584-AE09
34 | Certification of Compliance With Meal Requirements for the National School Lunch Program Under the Healthy, Hunger-Free Kids Act of 2010 | 0584-AE15

Food Safety and Inspection Service—Proposed Rule Stage
Sequence No. | Title | Regulation Identifier No.
35 | Performance Standards for the Production of Processed Meat and Poultry Products | 0583-AC46

Food Safety and Inspection Service—Final Rule Stage
Sequence No. | Title | Regulation Identifier No.
36 | Mandatory Inspection of Catfish and Catfish Products | 0583-AD36

Forest Service—Proposed Rule Stage
Sequence No. | Title | Regulation Identifier No.
37 | National Forest System Invasive Species Management Handbook | 0596-AD05

Forest Service—Final Rule Stage
Sequence No. | Title | Regulation Identifier No.
38 | Land Management Planning Rule Policy | 0596-AD06

Office of Procurement and Property Management—Completed Actions
Sequence No. | Title | Regulation Identifier No.
39 | Designation of Biobased Items for Federal Procurement, Round 10 | 0599-AA16

DEPARTMENT OF AGRICULTURE (USDA)

Agricultural Marketing Service (AMS)

Proposed Rule Stage

1. National Organic Program, Organic Pet Food Standards

Legal Authority: 7 U.S.C. 6501

Abstract: The National Organic Program (NOP) is establishing national standards governing the marketing of organically produced agricultural products. In 2004, the National Organic Standards Board (NOSB) initiated the development of organic pet food standards, which had not been incorporated into the NOP regulations, by forming a task force which included pet food manufacturers, organic consultants, etc. Collectively, these experts drafted organic pet food standards consistent with the Organic Foods Production Act of 1990, Food and Drug Administration requirements, and the Association of American Feed Control Officials (AAFCO) Model Regulations for Pet and Specialty Pet Food. The AAFCO regulations are scientifically-based regulations for voluntary adoption by State jurisdictions to ensure the safety, quality and effectiveness of feed. In November 2008, the NOSB approval a final recommendation for organic pet food standards incorporating the provisions drafted by the pet food task force.

Timetable:

Action | Date | FR Cite
NPRM | 12/00/13 |
Final Action | 09/00/14 |

Regulatory Flexibility Analysis Required: Yes.

Agency Contact: Melissa R Bailey, Director, Standards Division, Department of Agriculture, Agricultural Marketing Service, 14th & Independence Avenue SW., Rm. 2646—South Building, Washington, DC 20250. Phone: 202 720-3252. Fax: 202 205-7808. Email: melissa.bailey@usda.gov.

RIN: 0581-AD20

2. National Organic Program; Sunset Review (2012) for Sodium Nitrate

Legal Authority: 7 U.S.C. 6501

Abstract: This action proposes to amend the listing for sodium nitrate on the National List of Allowed and Prohibited Substances as part of the 2012 Sunset Review process. Consistent with the recommendation from the National Organic Standards Board, this amendment would prohibit the use of the substance in its entirety from organic crop production.

Timetable:

Action | Date | FR Cite
NPRM | 11/00/13 |

Regulatory Flexibility Analysis Required: Yes.

Agency Contact: Melissa R. Bailey, Director, Standards Division, Department of Agriculture, Agricultural Marketing Service, 14th & Independence Avenue SW., Rm. 2646—South Building, Washington, DC 20250, Phone: 202 720-3252. Fax: 202 205-7808. Email: melissa.bailey@usda.gov.

RIN: 0581-AD22

DEPARTMENT OF AGRICULTURE (USDA)

Agricultural Marketing Service (AMS)

Final Rule Stage

3. National Organic Program: Sunset Review for Nutrient Vitamins and Minerals

Legal Authority: 7 U.S.C. 6501

Abstract: This action renews the listing for nutrient vitamins and minerals on the National List of Allowed and Prohibited Substances (National List) as part of the 2012 Sunset Review process. Consistent with the recommendation from the National Organic Standards Board (NOSB), this action ensures that the U.S. organic industry can continue using vitamins and minerals in organic products (e.g., the addition of Vitamin A and D in organic milk, the addition of B vitamins in organic cereal). Under this action, the status quo will remain in effect such that nutrients currently used in organic products can continue to be used until the Agricultural Marketing Service (AMS) addresses any changes in their allowance through a final rule.

Timetable:

Action | Date | FR Cite
NPRM | 01/12/12 | 77 FR 1980
NPRM Comment Period End | 03/12/12 |
Interim Final Rule | 09/27/12 | 77 FR 59287
Interim Final Rule Comment Period End | 10/21/12 |
Final Action | 12/00/13 |

Regulatory Flexibility Analysis Required: Yes.

Agency Contact: Melissa R Bailey, Director, Standards Division, Department of Agriculture, Agricultural Marketing Service, 14th & Independence Avenue SW., Rm. 2646—South Building, Washington, DC 20250, Phone: 202 720-3252. Fax: 202 205-7808, Email: melissa.bailey@usda.gov.

RIN: 0581-AD17

DEPARTMENT OF AGRICULture (USDA)

Agricultural Marketing Service (AMS)

Completed Actions

4. • Mandatory Country of Origin Labeling of Beef, Pork, Lamb, Chicken, Goat Meat, Perishable Agricultural Commodities, Peanuts, Pecans, Macadamia Nuts, Ginseng, etc., LS-13-0004

Legal Authority: 7 U.S.C. 1621 et seq.

Abstract: The Farm Security and Rural Investment Act of 2002 (2002 Farm Bill) (Pub. L. 107-171), the 2002 Supplemental Appropriations Act (2002 Appropriations) (Pub. L. 107-206), and the Food, Conservation and Energy Act of 2008 (2008 Farm Bill) (Pub. L. 110-234) amended the Agricultural Marketing Act of 1946 (Act) (7 U.S.C. 1621 et seq.) to require retailers to notify their customers of the country of origin of covered commodities. Covered commodities include muscle cuts of beef (including veal), lamb, chicken, goat, and pork; ground beef, ground lamb, ground chicken, ground goat, and ground pork; wild and farm-raised fish and shellfish; perishable agricultural commodities; macadamia nuts; pecans; ginseng; and peanuts.

AMS published a final rule for all covered commodities on January 15, 2009, which took effect on March 16, 2009. The Department proposes to amend the COOL regulations to modify the labeling provisions for muscle cut covered commodities as a result of the recent World Trade Organization dispute and to make other minor modifications to enhance the overall operation of the program.

Timetable:

Action | Date | FR Cite
NPRM | 03/12/13 | 78 FR 15645
NPRM Comment Period End | 04/11/13 |
Final Rule Effective | 05/23/13 |
Final Rule | 05/24/13 | 78 FR 31367

Regulatory Flexibility Analysis Required: Yes.

Agency Contact: Erin Morris, Department of Agriculture, Agricultural Marketing Service, 14th and Independence Avenue SW., Room 3071—South Building, Washington, DC 20250, Phone: 202 690-4024. Email: erin.morris@ams.usda.gov.

RIN: 0581-AD29

BILLING CODE 3410-02-P

DEPARTMENT OF AGRICULture (USDA)

Farm Service Agency (FSA)

Final Rule Stage

5. Farm Loan Programs, Clarification and Improvement

Legal Authority: 5 U.S.C. 301; 7 U.S.C. 1989

Abstract: The rule will amend Farm Loan Programs (FLP) regulations for loan servicing including the following areas:

—Real estate appraisals;

—Lease, subordination, and disposition of security; and

—Conservation contracts.

FSA is also making technical and conforming amendments. The amendments are technical corrections, clarifications, and procedural improvements that will allow FSA to further streamline normal servicing activities and reduce burden on borrowers while still protecting the loan security.

Timetable:

Action | Date | FR Cite
NPRM | 04/13/12 | 77 FR 22444
NPRM Comment Period End | 06/12/12 |
Final Action | 07/00/13 |

Regulatory Flexibility Analysis Required: Yes.

Agency Contact: Deirdre Holder, Director, Regulatory Review Group, Department of Agriculture, Farm Service Agency, 1400 Independence Avenue SW., Washington, DC 20250-0572, Phone: 202 205-5851. Fax: 202 720-5233. Email: deirdre.holder@wdc.usda.gov.

RIN: 0560-AI14

DEPARTMENT OF AGRICULture (USDA)

Farm Service Agency (FSA)

Completed Actions

6. Microloan Operating Loans

Legal Authority: 7 U.S.C. 1946; 5 U.S.C. 301; 7 U.S.C. 1989

Abstract: This action is complete. The rule established a new small loan category within the existing direct Operating Loan Program regulations. The microloan program is expected to serve the unique operating needs of very small family farm operations. The intended effect is to make the Operating Loan Program more widely available and attractive to smaller operators through reduced application requirements, more timely application processing, and added flexibility in meeting the managerial ability eligibility requirement.

Completed:

Reason | Date | FR Cite
Final Rule | 01/17/13 | 78 FR 3828
Final Rule Effective | 01/17/13 |

Regulatory Flexibility Analysis Required: Yes.

Agency Contact: Deirdre Holder, Phone: 202 205-5851, Fax: 202 720-5233, Email: deirdre.holder@wdc.usda.gov.

RIN: 0560-AI17

BILLING CODE 3410-05-P

Department of Agriculture (USDA)

Animal and Plant Health Inspection Service (APHIS)

Proposed Rule Stage

7. Animal Welfare: Marine Mammals; Nonconsensus Language and Interactive Programs (Rulemaking Resulting From a Section 610 Review)

Legal Authority: 7 U.S.C. 2131 to 2159

Abstract: The U.S. Department of Agriculture regulates the humane handling, care, treatment, and transportation of certain marine mammals under the Animal Welfare Act. The present standards for these animals have been in effect since 1979 and amended in 1984. During this time, advances have been made and new information has been developed with regard to the housing and care of marine mammals. This rulemaking addresses marine mammal standards on which consensus was not reached during negotiated rulemaking conducted between September 1995 and July 1996. These actions appear necessary to ensure that the minimum standards for the humane handling, care, treatment, and transportation of marine mammals in captivity are based on current general, industry, and scientific knowledge and experience.

Timetable:

Action | Date | FR Cite
ANPRM | 05/30/02 | 67 FR 37731
ANPRM Comment Period End | 07/29/02 |
NPRM | 07/00/13 |
NPRM Comment Period End | 09/00/13 |

Regulatory Flexibility Analysis Required: Yes.

Agency Contact: Barbara Kohn, Senior Staff Veterinarian, Animal Care, Department of Agriculture, Animal and Plant Health Inspection Service, 4700 River Road, Unit 84, Riverdale, MD 20737-1234, Phone: 301 851-3751.

RIN: 0579-AB24

8. Scrapie in Sheep and Goats

Legal Authority: 7 U.S.C. 8301 to 8317

Abstract: This rulemaking would amend the scrapie regulations by changing the risk groups and categories established for individual animals and for flocks. It would simplify, reduce, or remove certain recordkeeping requirements. This action would provide designated scrapie epidemiologists with more alternatives and flexibility when testing animals in order to determine flock designations under the regulations. It would also make the identification and recordkeeping requirements for goat owners consistent with those for sheep owners. These changes would affect sheep and goat producers and State governments.

Timetable:

Action | Date | FR Cite
NPRM | 09/00/13 |
NPRM Comment Period End | 11/00/13 |

Regulatory Flexibility Analysis Required: Yes

Agency Contact: Diane Sutton, National Scrapie Program Coordinator, Ruminant Health Programs, NCAHP, VS, Department of Agriculture, Animal and Plant Health Inspection Service, 4700 River Road, Unit 43, Riverdale, MD 20737-1235, Phone: 301 851-3509.

RIN: 0579-AC92

9. Plant Pest Regulations; Update of General Provisions

Legal Authority: 7 U.S.C. 450; 7 U.S.C. 2260; 7 U.S.C. 7701 to 7772; 7 U.S.C. 7781 to 7786; 7 U.S.C. 8301 to 8817; 19 U.S.C. 136; 21 U.S.C. 111; 21 U.S.C. 114a; 21 U.S.C. 136 and 136a; 31 U.S.C. 9701; 42 U.S.C. 4331 and 4332.

Abstract: We are proposing to revise our regulations regarding the movement of plant pests. We are proposing to regulate the movement of not only plant pests, but also biological control organisms and associated articles. We are proposing risk-based criteria regarding the movement of biological control organisms, and are proposing to establish regulations to allow the movement in interstate commerce of certain types of plant pests without restriction by granting exceptions from permitting requirements for those pests. We are also proposing to revise our regulations regarding the movement of soil and to establish regulations governing the biocontainment facilities in which plant pests, biological control organisms, and associated articles are held. This proposed rule replaces a previously published proposed rule, which we are withdrawing as part of this document. This proposal would clarify the factors that would be considered when assessing the risks associated with the movement of certain organisms, facilitate the movement of regulated organisms and articles in a manner that also protects U.S. agriculture, and address gaps in the current regulations.

Timetable:

Action | Date | FR Cite
Notice of Intent To Prepare an Environmental Impact Statement | 10/20/09 | 74 FR 53673
Notice Comment Period End | 11/19/09 |
NPRM | 11/00/13 |
NPRM Comment Period End | 01/00/14 |

Regulatory Flexibility Analysis Required: Yes.

Agency Contact: Shirley Wager-Page, Chief, Pest Permitting Branch, Plant Health Programs, PPQ, Department of Agriculture, Animal and Plant Health Inspection Service, 4700 River Road, Unit 131, Riverdale, MD 20737-1236, Phone: 301 851-2323.

RIN: 0579-AC98

10. Bovine Spongiform Encephalopathy and Scrapie; Importation of Small Ruminants and Their Germplasm, Products, and Byproducts

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: This rulemaking would amend the bovine spongiform encephalopathy (BSE) and scrapie regulations regarding the importation of live sheep, goats, and wild ruminants and their embryos, semen, products, and byproducts. The proposed scrapie revisions regarding the importation of sheep, goats, and susceptible wild ruminants for other than immediate slaughter are similar to those recommended by the World Organization for Animal Health in restricting the importation of such animals to those from scrapie-free regions or certified scrapie-free flocks.

Timetable:

Action | Date | FR Cite
NPRM | 10/00/13 |
NPRM Comment Period End | 12/00/13 |

Regulatory Flexibility Analysis Required: Yes.

Agency Contact: Peter Merrill, Assistant Director, Technical Trade Services, National Center for Import and Export, VS, Department of Agriculture, Animal and Plant Health Inspection Service, 4700 River Road, Unit 39, Riverdale, MD 20737-1231, Phone: 301 851-3300.

RIN: 0579-AD10

11. Importation of Beef From a Region in Brazil

Legal Authority: 7 U.S.C. 450; 7 U.S.C. 7701 to 7772; 7 U.S.C. 7781 to 7786; 7 U.S.C. 8301 to 8317; 21 U.S.C. 136 and 136a; 31 U.S.C. 9701.

Abstract: This rulemaking would amend the regulations governing the importation of certain animals, meat, and other animal products by allowing, under certain conditions, the importation of fresh (chilled or frozen) beef from a region in Brazil (the States of Bahia, Distrito Federal, Espirito Santo, Goias, Mato Grosso, Mato Grosso do Sul, Minas Gerais, Parana, Rio Grande do Sul, Rio de Janeiro, Rondonia, Sao Paulo, Sergipe, and Tocantis). Based on the evidence in a recent risk assessment, we have determined that fresh (chilled or frozen) beef can be safely imported from those Brazilian States provided certain conditions are met. This action would provide for the importation of beef from the designated region in Brazil into the United States while continuing to protect the United States against the introduction of foot-and-mouth disease.

Timetable:

Action | Date | FR Cite
NPRM | 07/00/13 |
NPRM Comment Period End | 09/00/13 |

Regulatory Flexibility Analysis Required: Yes.

Agency Contact: Silvia Kreindel, Senior Staff Veterinarian, Regionalization Evaluation Services Staff, NCIE, VS, Department of Agriculture, Animal and Plant Health Inspection Service, 4700 River Road, Unit 39, Riverdale, MD 20737-1231, Phone: 301 851-3313.

RIN: 0579-AD41

12. Domestic Regulation of Firewood

Legal Authority: 7 U.S.C. 7701 to 7772; 7 U.S.C. 7781 to 7786.

Abstract: This rulemaking would require that commercial firewood destined to be moved interstate be affixed with a label on which the county and State, or counties and States, in which the wood from which the firewood was produced was harvested, the site at which the firewood was produced, what phytosanitary treatment, if any, the firewood has received, and contact information for reporting detections of suspected plant pests are prominently and legibly displayed. We would also require firewood producers, distributors, and retailers to retain records regarding the manufacturing, purchase, and sale of the firewood. Although the movement of commercial firewood in interstate commerce can be a pathway for numerous plant pests, this movement is currently largely unregulated. This action would aid in preventing the further dissemination of plant pests within the United States through the interstate movement of firewood.

Timetable:

Action | Date | FR Cite
NPRM | 11/00/13 |
NPRM Comment Period End | 01/00/14 |

Regulatory Flexibility Analysis Required: Yes.

Agency Contact: Paul Chaloux, National Program Manager, Emergency and Domestic Programs, PPQ, Department of Agriculture, Animal and Plant Health Inspection Service, 4700 River Road, Unit 137, Riverdale, MD 20737-1236, Phone: 301 851-2064.

RIN: 0579-AD49

13. Brucellosis and Bovine Tuberculosis; Update of General Provisions

Legal Authority: 7 U.S.C. 1622; 7 U.S.C. 8301 to 8317; 15 U.S.C. 1828; 21 U.S.C. 136 and 136a; 31 U.S.C. 9701.

Abstract: This rulemaking would consolidate the regulations governing bovine tuberculosis (TB), currently found in 9 CFR part 77, and those governing brucellosis, currently found in 9 CFR part 78. As part of this consolidation, we are proposing to transition the TB and brucellosis programs away from a state status system based on disease prevalence. Instead, States and tribes would implement an animal health plan that identifies sources of the diseases within the State or tribe and specifies mitigations to address the risk posed by these sources. The consolidated regulations would also set forth standards for surveillance, epidemiological investigations, and affected herd management that must be incorporated into each animal health plan, with certain limited exceptions; conditions for the interstate movement of cattle, bison, and captive cervids; and conditions for APHIS approval of tests for bovine TB or brucellosis. Finally, the rulemaking would revise the import requirements for cattle and bison to make these requirements clearer and assure that they more effectively mitigate the risk of introduction of the diseases into the United States.

Timetable:

Action | Date | FR Cite
NPRM | 11/00/13 |
NPRM Comment Period End | 01/00/14 |

Regulatory Flexibility Analysis Required: Yes.

Agency Contact: Langston Hull, National Center for Import and Export, Department of Agriculture, Animal and Plant Health Inspection Service, 4700 River Road, Unit 39, Riverdale, MD 20737, Phone: 301 851-3300.

C. William Hench, Senior Staff Veterinarian, Ruminant Health Programs, National Center for Animal Health Programs, VS, Department of Agriculture, Animal and Plant Health Inspection Service, 2150 Centre Avenue, Building B-3E20, Ft. Collins, CO 80526, Phone: 970 494-7378.

RIN: 0579-AD65

14. • Establishing a Performance Standard for Authorizing the Importation and Interstate Movement of Fruits and Vegetables

Legal Authority: 7 U.S.C. 450; 7 U.S.C. 7701 to 7772; 7 U.S.C. 7781 to 7786; 21 U.S.C. 136 and 136a.

Abstract: This rulemaking would amend our regulations governing the importations of fruits and vegetables by broadening our existing performance standard to provide for approval of all new fruits and vegetables for importation into the United States using a notice-based process. It would also remove the region- or commodity-specific phytosanitary requirements currently found in these regulations. Likewise, we are proposing an equivalent revision of the performance standard in our regulations governing the interstate movements of fruits and vegetables from Hawaii and the U.S. territories (Guam, Northern Mariana Islands, Puerto Rico, and the U.S. Virgin Islands) and the removal of commodity-specific phytosanitary requirements from those regulations. This proposal would allow for the approval of requests to authorize the importation or interstate movement of new fruits and vegetables in a manner that enables a more flexible and responsive regulatory approach to evolving pest situations in both the United States and exporting countries. It would not, however, alter the science-based process in which the risk associated with importation or interstate movement of a given fruit or vegetable is evaluated or the manner in which risks associated with the importation or interstate movement of a fruit or vegetable are mitigated.

Timetable:

Action | Date | FR Cite
NPRM | 10/00/13 |
NPRM Comment Period End | 12/00/13 |

Regulatory Flexibility Analysis Required: Yes.

Agency Contact: Matthew Rhoads, Associate Executive Director, Plant Health Programs, PPQ, Department of Agriculture, Animal and Plant Health Inspection Service, 4700 River Road, Unit 131, Riverdale, MD 20737-1231, Phone: 301 851-2133.

RIN: 0579-AD71

DEPARTMENT OF AGRICULTURE (USDA)

Animal and Plant Health Inspection Service (APHIS)

Final Rule Stage

15. Chronic Wasting Disease in Elk and Deer; Interstate Movement Restrictions and Payment of Indemnity

Legal Authority: 7 U.S.C. 8301 to 8317; 21 U.S.C. 111 to 113; 21 U.S.C. 120 and 121; 21 U.S.C. 125; 21 U.S.C. 134(b)

Abstract: This rulemaking establishes a herd certification program and requirements for the interstate movement of farmed or captive deer, elk, and moose and authorizes the payment of indemnity, subject to availability of funds, for the depopulation of farmed or captive deer, elk, and moose that have been infected with, or exposed to, chronic wasting disease (CWD).

Timetable:

Action | Date | FR Cite
Interim Final Rule | 02/08/02 | 67 FR 5925
Interim Final Rule Comment Period End | 04/09/02 |
NPRM | 12/24/03 | 68 FR 74513
NPRM Comment Period End | 02/23/04 |
Final Rule | 07/21/06 | 71 FR 41682
Delay of Effective Date | 09/08/06 | 71 FR 52983
Final Rule Effective | 10/19/06 |
Notice of Receipt of Petitions and Request for Comments | 11/03/06 | 71 FR 64650
Comment Period End | 12/04/06 |
Comment Period Extended | 11/21/06 | 71 FR 67313
Comment Period End | 01/03/07 |
NPRM Supplemental Proposal | 03/31/09 | 74 FR 14495
NPRM Supplemental Proposal Comment Period End | 06/01/09 |
Interim Final Rule | 06/13/12 | 77 FR 35542
Interim Final Rule Comment Period End | 07/13/12 |
Interim Final Rule Effective | 08/13/12 |
Interim Final Rule Comment Period Reopened | 07/20/12 | 77 FR 42625
Interim Final Rule Comment Period End | 08/13/12 |
Final Rule | 10/00/13 |

Regulatory Flexibility Analysis Required: Yes.

Agency Contact: Patrice Klein, Senior Staff Veterinarian, National Center for Animal Health Programs, VS, Department of Agriculture, Animal and Plant Health Inspection Service, 4700 River Road, Unit 43, Riverdale, MD 20737-1231, Phone: 301 851-3435.

RIN: 0579-AB35

16. Citrus Canker; Compensation for Certified Citrus Nursery Stock

Legal Authority: 7 U.S.C. 7701 to 7772; 7 U.S.C. 7781 to 7786

Abstract: This action follows a rulemaking that established provisions under which eligible commercial citrus nurseries could, subject to the availability of appropriated funds, receive payments for certified citrus nursery stock destroyed to control citrus canker. The payment of these funds was necessary in order to reduce the economic effects on affected commercial citrus nurseries that had certified citrus nursery stock destroyed to control citrus canker.

Timetable:

Action | Date | FR Cite
Interim Final Rule | 06/08/06 | 71 FR 33168
Interim Final Rule Effective | 06/08/06 |
Interim Final Rule Comment Period End | 08/07/06 |
Affirmation of Interim Rule | 11/00/13 |

Regulatory Flexibility Analysis Required: Yes.

Agency Contact: Lynn Evans-Goldner, National Program Manager, Plant Health Programs, PPQ, Department of Agriculture, Animal and Plant Health Inspection Service, 4700 River Road, Unit 160, Riverdale, MD 20737-1231, Phone: 301 851-2286.

RIN: 0579-AC05

17. Introduction of Organisms and Products Altered or Produced Through Genetic Engineering

Legal Authority: 7 U.S.C. 7701 to 7772; 7 U.S.C. 7781 to 7786; 31 U.S.C. 9701

Abstract: This rulemaking will amend the regulations regarding the importation, interstate movement, and environmental release of certain genetically engineered organisms. This rule will affect persons involved in the importation, interstate movement, or release into the environment of genetically engineered plants and certain other genetically engineered organisms.

Timetable:

Action | Date | FR Cite
Notice of Intent to Prepare an Environmental Impact Statement | 01/23/04 | 69 FR 3271
Comment Period End | 03/23/04 |
Notice of Availability of Draft Environmental Impact Statement | 07/17/07 | 72 FR 39021
Comment Period End | 09/11/07 |
NPRM | 10/09/08 | 73 FR 60007
NPRM Comment Period End | 11/24/08 |
Correction | 11/10/08 | 73 FR 66563
NPRM Comment Period Reopened | 01/16/09 | 74 FR 2907
NPRM Comment Period End | 03/17/09 |
NPRM; Notice of Public Scoping Session | 03/11/09 | 74 FR 10517
NPRM Comment Period Reopened | 04/13/09 | 74 FR 16797
NPRM Comment Period End | 06/29/09 |
Interim Final Rule | 11/00/13 |
Interim Final Rule Comment Period End | 12/00/13 |

Regulatory Flexibility Analysis Required: Yes.

Agency Contact: Andrea Huberty, Branch Chief, Regulatory and Environmental Analysis, BRS, Department of Agriculture, Animal and Plant Health Inspection Service, 4700 River Road, Unit 146, Riverdale, MD 20737-1236, Phone: 301 851-3880.

RIN: 0579-AC31

18. Importation of Poultry and Poultry Products From Regions Affected With Highly Pathogenic Avian Influenza

Legal Authority: 7 U.S.C. 1622; 7 U.S.C. 8301 to 8317; 21 U.S.C. 136 and 136a; 31 U.S.C. 9701

Abstract: This rulemaking will amend the regulations concerning the importation of animals and animal products to prohibit or restrict the importation of birds, poultry, and bird and poultry products from regions that have reported the presence in commercial birds or poultry of highly pathogenic avian influenza of any subtype. This action will supplement existing prohibitions and restrictions on articles from regions that have reported the presence of Newcastle disease or highly pathogenic avian influenza subtype H5N1.

Timetable:

Action | Date | FR Cite
Interim Final Rule | 01/24/11 | 76 FR 4046
Interim Final Rule Comment Period End | 03/25/11 |
Interim Final Rule Comment Period Reopened | 05/03/11 | 76 FR 24793
Interim Final Rule Comment Period Reopened End | 05/18/11 |
Interim Final Rule Comment Period Reopened | 06/12/12 | 77 FR 34783
Interim Final Rule Comment Period Reopened End | 07/12/12 |
Final Rule | 09/00/13 |

Regulatory Flexibility Analysis Required: Yes.

Agency Contact: Javier Vargas, Case Manager, National Center for Import and Export, VS, Department of Agriculture, Animal and Plant Health Inspection Service, 4700 River Road, Unit 38, Riverdale, MD 20737-1231, Phone: 301 851-3300.

RIN: 0579-AC36

19. Bovine Spongiform Encephalopathy; Importation of Bovines and Bovine Products

Legal Authority: 7 U.S.C. 450; 7 U.S.C. 1622; 7 U.S.C. 7701 to 7772; 7 U.S.C. 8301 to 8317; 21 U.S.C. 136 and 136a; 31 U.S.C. 9701

Abstract: This rulemaking will amend the regulations regarding the importation of bovines and bovine products. This rulemaking will also address public comments received in response to a September 2008 request for comments regarding certain provisions of an APHIS January 2005 final rule.

Timetable:

Action | Date | FR Cite
NPRM | 03/16/12 | 77 FR 15848
NPRM Comment Period End | 05/15/12 |
NPRM Comment Period Reopened | 05/21/12 | 77 FR 29914
NPRM Comment Period Reopened End | 06/14/12 |
Final Rule | 09/00/13 |

Regulatory Flexibility Analysis Required: Yes.

Agency Contact: Betzaida Lopez, Staff Veterinarian, Technical Trade Services, National Center for Import and Export, VS, Department of Agriculture, Animal and Plant Health Inspection Service, 4700 River Road, Unit 39, Riverdale, MD 20737-1231, Phone: 301 851-3364.

Christopher Robinson, Senior Staff Veterinarian, Technical Trade Services, National Center for Import and Export, VS, Department of Agriculture, Animal and Plant Health Inspection Service, 4700 River Road, Unit 40, Riverdale, MD 20737-1231, Phone: 301 851-3300.

RIN: 0579-AC68

20. Lacey Act Implementation Plan; Definitions for Exempt and Regulated Articles

Legal Authority: 16 U.S.C. 3371 et seq.

Abstract: In response to recent amendments to the Lacey Act, we are establishing definitions for the terms “common cultivar” and “common food crop” and several related terms. The amendments to the Act expanded its protections to a broader range of plant species, extended its reach to encompass products, including timber, that derive from illegally harvested plants, and require that importers submit a declaration at the time of importation for certain plants and plant products. Common cultivars and common food crops are among the categorical exemptions to the provisions of the Act. The Act does not define the terms “common cultivar” and “common food crop” but instead gives authority to the U.S. Department of Agriculture and the U.S. Department of the Interior to define these terms by regulation. Our definitions specify which plants and plant products will be subject to the provisions of the Act, including the declaration requirement.

Timetable:

Action | Date | FR Cite
NPRM | 08/04/10 | 75 FR 46859
NPRM Comment Period End | 10/04/10 |
Extension of Comment Period | 10/29/10 | 75 FR 66699
Extension of Comment Period End | 11/29/10 |
Final Rule | 07/00/13 |

Regulatory Flexibility Analysis Required: Yes.

Agency Contact: George Balady, Staff Officer, Quarantine Policy Analysis and Support, PPQ, Department of Agriculture, Animal and Plant Health Inspection Service, 4700 River Road, Unit 60, Riverdale, MD 20737-1231, Phone: 301 851-2240.

RIN: 0579-AD11

21. Importation of Live Dogs

Legal Authority: 7 U.S.C. 2148

Abstract: We are amending the regulations to implement an amendment to the Animal Welfare Act (AWA). The Food, Conservation, and Energy Act of 2008 added a new section to the AWA to restrict the importation of certain live dogs. Consistent with this amendment, this rule prohibits the importation of dogs, with limited exceptions, from any part of the world into the continental United States or Hawaii for purposes of resale, research, or veterinary treatment, unless the dogs are in good health, have received all necessary vaccinations, and are at least 6 months of age. This action is necessary to implement the amendment to the AWA and will help to ensure the welfare of imported dogs.

Timetable:

Action | Date | FR Cite
NPRM | 09/01/11 | 76 FR 54392
NPRM Comment Period End | 10/31/11 |
Final Rule | 09/00/13 |

Regulatory Flexibility Analysis Required: Yes.

Agency Contact: Gerald Rushin, Veterinary Medical Officer, Animal Care, Department of Agriculture, Animal and Plant Health Inspection Service, 4700 River Road, Unit 84, Riverdale, MD 20737-1231, Phone: 301 851-3740.

RIN: 0579-AD23

22. Importation of Wood Packaging Material From Canada

Legal Authority: 7 U.S.C. 450; 7 U.S.C. 7701 to 7772; 7 U.S.C. 7781 to 7786; 21 U.S.C. 136 and 136a

Abstract: This rulemaking will amend the regulations for the importation of unmanufactured wood articles to remove the exemption that allows wood packaging material from Canada to enter the United States without first meeting the treatment and marking requirements of the regulations that apply to wood packaging material from all other countries. This action is necessary in order to prevent the dissemination and spread of pests via wood packaging material from Canada.

Timetable:

Action | Date | FR Cite
NPRM | 12/02/10 | 75 FR 75157
NPRM Comment Period End | 01/31/11 |
Final Rule | 09/00/13 |

Regulatory Flexibility Analysis Required: Yes.

Agency Contact: John Tyrone Jones, Trade Director, Forestry Products, Phytosanitary Issues Management, PPQ, Department of Agriculture, Animal and Plant Health Inspection Service, 4700 River Road, Unit 140, Riverdale, MD 20737-1231, Phone: 301 851-2344.

RIN: 0579-AD28

23. Citrus Canker, Citrus Greening, and Asian Citrus Psyllid; Interstate Movement of Regulated Nursery Stock

Legal Authority: 7 U.S.C. 7701 to 7772; 7 U.S.C. 7781 to 7786

Abstract: This rulemaking will amend the regulations governing the interstate movement of regulated articles from areas quarantined for citrus canker, citrus greening, and/or Asian citrus psyllid (ACP) to allow the movement of regulated nursery stock under a certificate to any area within the United States. In order to be eligible to move regulated nursery stock, a nursery must enter into a compliance agreement with APHIS that specifies the conditions under which the nursery stock must be grown, maintained, and shipped. It will also amend the regulations that allow the movement of regulated nursery stock from an area quarantined for ACP, but not for citrus greening, to amend the existing regulatory requirements for the issuance of limited permits for the interstate movement of the nursery stock. We made these changes on an immediate basis in order to provide nursery stock producers in areas quarantined for citrus canker, citrus greening, or ACP with the ability to ship regulated nursery stock to markets within the United States that would otherwise be unavailable to them due to the prohibitions and restrictions contained in the regulations while continuing to provide adequate safeguards to prevent the spread of the three pests into currently unaffected areas of the United States.

Timetable:

Action | Date | FR Cite
Interim Final Rule | 04/27/11 | 76 FR 23449
Interim Final Rule Effective | 04/27/11 |
Interim Final Rule Comment Period End | 06/27/11 |
Final Rule | 07/00/13 |

Regulatory Flexibility Analysis Required: Yes.

Agency Contact: Lynn Evans-Goldner, National Program Manager, Plant Health Programs, PPQ, Department of Agriculture, Animal and Plant Health Inspection Service, 4700 River Road, Unit 160, Riverdale, MD 20737-1231, Phone: 301 851-2286.

RIN: 0579-AD29

24. Treatment of Firewood and Spruce Logs Imported From Canada

Legal Authority: 7 U.S.C. 450; 7 U.S.C. 7701 to 7772; 7 U.S.C. 7781 to 7786; 21 U.S.C. 136 and 136a

Abstract: This rulemaking will amend the regulations to require firewood of all species imported from Canada, including treated lumber (furniture scraps) sold as kindling, and all spruce logs imported from Nova Scotia to be heat-treated and to be accompanied by either a certificate of treatment or an attached commercial treatment label. This action is necessary on an immediate basis to prevent the artificial spread of pests including emerald ash borer, Asian longhorned beetle, gypsy moth, European spruce bark beetle, and brown spruce longhorn beetle to noninfested areas of the United States and to prevent further introductions of these pests into the United States.

Timetable:

Action | Date | FR Cite
Interim Final Rule | 09/00/13 |
Interim Final Rule Comment Period End | 11/00/13 |

Regulatory Flexibility Analysis Required: Yes.

Agency Contact: John Tyrone Jones, Trade Director, Forestry Products, Phytosanitary Issues Management, PPQ, Department of Agriculture, Animal and Plant Health Inspection Service, 4700 River Road, Unit 140, Riverdale, MD 20737-1231, Phone: 301 851-2344.

RIN: 0579-AD60

DEPARTMENT OF AGRICULTURE (USDA)

Animal and Plant Health Inspection Service (APHIS)

Completed Actions

25. Handling of Animals; Contingency Plans

Legal Authority: 7 U.S.C. 2131 to 2159

Abstract: This rulemaking amends the Animal Welfare Act regulations to add requirements for contingency planning and training of personnel by research facilities and by dealers, exhibitors, intermediate handlers, and carriers. We are taking this action because we believe all licensees and registrants should develop a contingency plan for all animals regulated under the Animal Welfare Act in an effort to better prepare for potential disasters. This action will heighten the awareness of licensees and registrants regarding their responsibilities and help ensure a timely and appropriate response should an emergency or disaster occur.

Completed:

Action | Date | FR Cite
Final Rule | 12/31/12 | 77 FR 76815
Final Rule Effective | 01/30/13 |

Regulatory Flexibility Analysis Required: Yes.

Agency Contact: Jeanie Lin, Phone: 919 855-7100.

RIN: 0579-AC69

26. Agricultural Bioterrorism Protection Act of 2002; Biennial Review and Republication of the Select Agent and Toxin List; Amendments to the Select Agent and Toxin Regulations

Legal Authority: 7 U.S.C. 8401

Abstract: In accordance with the Agricultural Bioterrorism Protection Act of 2002, we are amending and republishing the list of select agents and toxins that have the potential to pose a severe threat to animal or plant health, or to animal or plant products. The Act requires the biennial review and republication of the list of select agents and toxins and the revision of the list as necessary. This action implements the findings of the third biennial review of the list. In addition, we are reorganizing the list of select agents and toxins based on the relative potential of each select agent or toxin to be misused to adversely affect human, plant, or animal health. Such tiering of the list allows for the optimization of security measures for those select agents or toxins that present the greatest risk of deliberate misuse with the most significant potential for mass casualties or devastating effects to the economy, critical infrastructure, or public confidence. We are also making a number of amendments to the regulations, including the addition of definitions and clarification of language concerning security, training, biosafety, biocontainment, and incident response. These changes will increase the usability of the select agent regulations as well as provide for enhanced program oversight.

Completed:

Reason | Date | FR Cite
Final Rule | 10/05/12 | 77 FR 61056
Final Rule Effective | 12/04/12 |
Remaining Provisions of Final Rule Effective | 04/03/13 |
Notice: Agency Information Collection Activities; OMB Approval Received | 02/15/13 | 78 FR 11138

Regulatory Flexibility Analysis Required: Yes.

Agency Contact: Charles L Divan, Phone: 301 851-2219.

RIN: 0579-AD09

27. Animal Disease Traceability

Legal Authority: 7 U.S.C. 8301 to 8317

Abstract: This rulemaking amends the regulations to establish minimum national official identification and documentation requirements for the traceability of livestock moving interstate. Under this rulemaking, unless specifically exempted, livestock belonging to species covered by the regulations that are moved interstate must be officially identified and accompanied by minimal documentation. These regulations specify approved forms of official identification for each species but allow the livestock covered under this rulemaking to be moved interstate with another form of identification, if agreed upon by animal health officials in the shipping and receiving States or Tribes. The purpose of this rulemaking is to improve our ability to trace livestock in the event that disease is found.

Completed:

Reason | Date | FR Cite
Final Rule | 01/09/13 | 78 FR 2040
Final Rule Effective | 03/11/13 |

Regulatory Flexibility Analysis Required: Yes.

Agency Contact: Neil Hammerschmidt, Phone: 301 851-3539.

RIN: 0579-AD24

28. • Importation of Horses From Contagious Equine Metritis—Affected Countries

Legal Authority: 7 U.S.C. 1622; 7 U.S.C. 8301 to 8317; 21 U.S.C. 136 and 136a; 31 U.S.C. 9701

Abstract: We are adopting as a final rule, with changes, an interim rule that amended the regulations regarding the importation of horses from countries affected with contagious equine metritis (CEM) by incorporating an additional certification requirement for imported horses 731 days of age or less and adding new testing protocols for test mares and imported stallions and mares more than 731 days of age. This document revises certain CEM-testing requirements for imported stallions and mares, and for test mares, that were amended in the interim rule. The interim rule was necessary to provide additional safeguards against the introduction of CEM through the importation of affected horses.

Timetable:

Action | Date | FR Cite
Interim Final Rule | 03/25/11 | 76 FR 16683
Interim Final Rule Effective | 03/25/11 |
Interim Final Rule Comment Period End | 05/24/11 |
Interim Final Rule; Delay of Enforcement | 05/31/11 | 76 FR 31220
Interim Final Rule; Delay of Enforcement and Reopening of Comment Period | 08/23/11 | 76 FR 52547
Interim Final Rule Comment Period End | 09/07/11 |
Final Rule | 02/11/13 | 78 FR 9577
Final Rule Effective | 03/13/13 |

Regulatory Flexibility Analysis Required: Yes.

Agency Contact: Ellen Buck, Senior Staff Veterinarian, Equine Imports, National Center for Import and Export, VS, Department of Agriculture, Animal and Plant Health Inspection Service, 4700 River Road, Unit 36, Riverdale, MD 20737-1231, Phone: 301 851-3361.

RIN: 0579-AD31

29. • Importation of Sand Pears From China

Legal Authority: 7 U.S.C. 450; 7 U.S.C. 7701 to 7772; 7 U.S.C. 7781 to 7786; 21 U.S.C. 136 and 136a

Abstract: This rulemaking amends the fruits and vegetables regulations to allow the importation of sand pears (Pyrus pyrifolia) from China into the United States. As a condition of entry, sand pears from areas in China in which the Oriental fruit fly (Bactrocera dorsalis) is not known to exist will have to be produced in accordance with a systems approach that includes requirements for registration of places of production and packinghouses, sourcing of pest-free propagative material, inspection for quarantine pests at set intervals by the national plant protection organization of China, bagging of fruit, safeguarding, labeling, and importation in commercial consignments. Sand pears from areas in China in which Oriental fruit fly is known to exist may be imported into the United States if, in addition to these requirements, the places of production and packinghouses have a monitoring system in place for Oriental fruit fly and the pears are treated with cold treatment. All sand pears from China will also be required to be accompanied by a phytosanitary certificate with an additional declaration stating that all conditions for the importation of the pears have been met and that the consignment of pears has been inspected and found free of quarantine pests. This action allows for the importation of sand pears from China into the United States while continuing to provide protection against the introduction of quarantine pests.

Timetable:

Action | Date | FR Cite
NPRM | 12/16/11 | 76 FR 78168
NPRM Comment Period End | 02/14/12 |
Final Rule | 12/19/12 | 77 FR 75007
Final Rule Effective | 01/18/13 |

Regulatory Flexibility Analysis Required: Yes.

Agency Contact: Farrell Wise, Supervisory Agriculturist, Regulatory Coordination and Compliance, PPQ, Department of Agriculture, Animal and Plant Health Inspection Service, 4700 River Road, Unit 133, Riverdale, MD 20737, Phone: 301 851-2280.

RIN: 0579-AD42

30. • Plum Pox Compensation

Legal Authority: 7 U.S.C. 7701 to 7772; 7 U.S.C. 7781 to 7786

Abstract: We are adopting as a final rule, without change, an interim rule that amended the plum pox regulations to provide for the payment of compensation to eligible owners of non-fruit-bearing ornamental tree nurseries and to increase the amount of compensation that may be paid to eligible owners of commercial stone fruit orchards and fruit tree nurseries whose trees are required to be destroyed in order to prevent the spread of plum pox. The interim rule also provided updated instructions for the submission of claims for compensation. These changes were necessary to provide adequate compensation to persons who are economically affected by the plum pox quarantine and the associated State and Federal eradication efforts.

Timetable:

Action | Date | FR Cite
Interim Final Rule | 02/03/12 | 77 FR 5381
Interim Final Rule Effective | 02/03/12 |
Interim Final Rule Comment Period End | 04/03/12 |
Affirmation of Interim Final Rule | 09/21/12 | 77 FR 58469

Regulatory Flexibility Analysis Required: Yes.

Agency Contact: Lynn Evans-Goldner, Plum Pox National Program Manager, Department of Agriculture, Animal and Plant Health Inspection Service, 4700 River Road, Unit 160, Riverdale, MD 20737-1231, Phone: 301 851-2286.

RIN: 0579-AD58

BILLING CODE 3410-34-P

DEPARTMENT OF AGRICULTURE (USDA)

Rural Housing Service (RHS)

Final Rule Stage

31. Guaranteed Single-Family Housing

Legal Authority: 5 U.S.C. 301; 7 U.S.C. 1989; 42 U.S.C. 1480

Abstract: The Guaranteed Single-Family Housing Loan Program is taking the proposed action to implement authorities granted the Secretary of the USDA, in section 102 of the Supplemental Appropriations Act, 2010 (Pub. L. 111-212, July 29, 2010). The intent of the annual fee is to make the SFHGLP subsidy neutral when used in conjunction with the one-time guarantee fee, thus eliminating the need for taxpayer support of the program.

Timetable:

Action | Date | FR Cite
NPRM | 10/28/11 | 76 FR 66860
NPRM Comment Period End | 12/27/11 |
Final Action | 09/00/13 |
Final Action Effective | 11/00/13 |

Regulatory Flexibility Analysis Required: Yes.

Agency Contact: Cathy Glover, Senior Loan Specialist, Department of Agriculture, Rural Housing Service, 1400 Independence Avenue SW., STOP 0784, Washington, DC 02050-0784, Phone: 202 720-1460, Email: cathy.glover@wdc.usda.gov.

RIN: 0575-AC18

BILLING CODE 3410-XV-P

DEPARTMENT OF AGRICULTURE (USDA)

Food and Nutrition Service (FNS)

Proposed Rule Stage

32. Child and Adult Care Food Program: Meal Pattern Revisions Related to the Healthy, Hunger-Free Kids Act of 2010

Legal Authority: Pub. L. 111-296

Abstract: This proposal would implement section 221 of the Healthy, Hunger-Free Kids Act of 2010 (Pub. L. 111-296, the Act) which requires USDA to review and update, no less frequently than once every 10 years, requirements for meals served under the Child and Adult Care Food Program (CACFP) to ensure that meals are consistent with the most recent Dietary Guidelines for Americans and relevant nutrition science.

Timetable:

Action | Date | FR Cite
NPRM | 09/00/13 |
NPRM Comment Period End | 11/00/13 |
Next Action Undetermined | To Be Determined

Regulatory Flexibility Analysis Required: Yes.

Agency Contact: James F. Herbert, Regulatory Review Specialist, Department of Agriculture, Food and Nutrition Service, Alexandria, VA 22302, Phone: 703 305-2572, Email: james.herbert@fns.usda.gov.

Lynnette M. Williams, Chief, Planning and Regulatory Affairs Branch, Department of Agriculture, Food and Nutrition Service, Alexandria, VA 22302, Phone: 703 605-4782, Email: lynnette.williams@fns.usda.gov.

RIN: 0584-AE18

DEPARTMENT OF AGRICULTURE (USDA)

Food and Nutrition Service (FNS)

Final Rule Stage

33. National School Lunch and School Breakfast Programs: Nutrition Standards for All Foods Sold in School, as Required by the Healthy, Hunger-Free Kids Act of 2010

Legal Authority: Pub. L. 111-296

Abstract: This rule codifies the two provisions of the Healthy, Hunger-Free Kids Act (Pub. L. 111-296; the Act) under 7 CFR parts 210 and 220. Section 203 requires schools participating in the National School Lunch Program to make available to children free of charge, as nutritionally appropriate, potable water for consumption in the place where meals are served during meal service. Section 208 requires the Secretary to promulgate proposed regulations to establish science-based nutrition standards for all foods sold in schools not later than December 13, 2011. The nutrition standards apply to all food sold outside the school meal programs, on the school campus, and at any time during the school day.

Timetable:

Action | Date | FR Cite
NPRM | 02/08/13 | 78 FR 9530
NPRM Comment Period End | 04/09/13 |
Interim Final Rule | 06/28/13 | 78 FR 39067
Interim Final Rule Effective | 08/27/13 |

Regulatory Flexibility Analysis Required: Yes.

Agency Contact: James F. Herbert, Regulatory Review Specialist, Department of Agriculture, Food and Nutrition Service, Alexandria, VA 22302, Phone: 703 305-2572, Email: james.herbert@fns.usda.gov.

Lynnette M. Williams, Chief, Planning and Regulatory Affairs Branch, Department of Agriculture, Food and Nutrition Service, Alexandria, VA 22302, Phone: 703 605-4782, Email: lynnette.williams@fns.usda.gov.

RIN: 0584-AE09

34. Certification of Compliance With Meal Requirements for the National School Lunch Program Under the Healthy, Hunger-Free Kids Act of 2010

Legal Authority: Pub. L. 111-296

Abstract: This rule codifies section 201 of the Healthy, Hunger-Free Kids Act (Pub. L. 111-296) under 7 CFR part 210 directing the Secretary to provide, additional 6 cents per lunch, adjusted annually for changes in the Consumer Price Index, for schools that are certified to be in compliance with the interim/final regulation, “Nutrition Standards in the National School Lunch and Breakfast Programs,” (77 FR 4088, January 26, 2012). This rule establishes the compliance standards that State agencies will use to certify schools that are eligible to receive the rate increase.

Timetable:

Action | Date | FR Cite
Interim Final Rule | 04/27/12 | 77 FR 25024
Interim Final Rule Effective | 07/01/12 |
Interim Final Rule Comment Period End | 07/26/12 |
Final Rule | 10/00/13 |

Regulatory Flexibility Analysis Required: Yes.

Agency Contact: James F. Herbert, Regulatory Review Specialist, Department of Agriculture, Food and Nutrition Service, Alexandria, VA 22302, Phone: 703 305-2572, Email: james.herbert@fns.usda.gov.

Lynnette M. Williams, Chief, Planning and Regulatory Affairs Branch, Department of Agriculture, Food and Nutrition Service, Alexandria, VA 22302, Phone: 703 605-4782, Email: lynnette.williams@fns.usda.gov.

RIN: 0584-AE15

BILLING CODE 3410-30-P

DEPARTMENT OF AGRICULTURE (USDA)

Food Safety and Inspection Service (FSIS)

Proposed Rule Stage

35. Performance Standards for the Production of Processed Meat and Poultry Products

Legal Authority: 21 U.S.C. 451 et seq.; 21 U.S.C. 601 et seq.

Abstract: FSIS is proposing to establish pathogen reduction performance standards for all ready-to-eat (RTE) and partially heat-treated meat and poultry products. The performance standards spell out the objective level of pathogen reduction that establishments must meet during their operations in order to produce safe products, but allow the use of customized, plant-specific processing procedures other than those prescribed in their earlier regulations. With HACCP, food safety performance standards give establishments the incentive and flexibility to adopt innovative, science-based food safety processing procedures and controls, while providing objective, measurable standards that can be verified by Agency inspectional oversight. This set of performance standards will include and be consistent with standards already in place for certain ready-to-eat meat and poultry products.

Timetable:

Action | Date | FR Cite
NPRM | 02/27/01 | 66 FR 12590
NPRM Comment Period End | 05/29/01 |
NPRM Comment Period Extended | 07/03/01 | 66 FR 35112
NPRM Comment Period Extended End | 09/10/01 |
Interim Final Rule | 06/06/03 | 68 FR 34208
Interim Final Rule Effective | 10/06/03 |
Interim Final Rule Comment Period End | 01/31/05 |
NPRM Comment Period Reopened | 03/24/05 | 70 FR 15017
NPRM Comment Period Reopened End | 05/09/05 |
Affirmation of Interim Final Rule and Supplemental Proposed Rule | 06/00/14 |

Regulatory Flexibility Analysis Required: Yes.

Agency Contact: Rachel Edelstein, Assistant Administrator, Office of Policy and Program Development, Department of Agriculture, Food Safety and Inspection Service, 1400 Independence Avenue SW., 350-E JWB, Washington, DC 20250, Phone: 202 205-0495, Fax: 202 720-2025, Email: rachel.edelstein@fsis.usda.gov.

RIN: 0583-AC46

DEPARTMENT OF AGRICULTURE (USDA)

Food Safety and Inspection Service (FSIS)

Final Rule Stage

36. Mandatory Inspection of Catfish and Catfish Products

Legal Authority: 21 U.S.C. 601 et seq.; Pub. L. 110-249, sec. 11016

Abstract: The Food, Conservation, and Energy Act of 2008 (Pub. L. 110-246, sec. 11016), known as the 2008 Farm Bill, amended the Federal Meat Inspection Act (FMIA) to make catfish an amenable species under the FMIA. Amenable species must be inspected, so this rule will define inspection requirements for catfish. The regulations will define “catfish” and the scope of coverage of the regulations to apply to establishments that process farm-raised species of catfish and to catfish and catfish products.

Timetable:

Action | Date | FR Cite
NPRM | 02/24/11 | 76 FR 10433
NPRM Comment Period End | 06/24/11 |
Final Action | 12/00/13 |

Regulatory Flexibility Analysis Required: Yes.

Agency Contact: Rachel Edelstein, Assistant Administrator, Office of Policy and Program Development, Department of Agriculture, Food Safety and Inspection Service, 1400 Independence Avenue SW., 350-E JWB, Washington, DC 20250, Phone: 202 205-0495, Fax: 202 720-2025, Email: rachel.edelstein@fsis.usda.gov.

RIN: 0583-AD36

BILLING CODE 3410-DM-P

DEPARTMENT OF AGRICULTURE (USDA)

Forest Service (FS)

Proposed Rule Stage

37. National Forest System Invasive Species Management Handbook

Legal Authority: 16 U.S.C. 473 et seq.; 16 U.S.C. 528 et seq.; 16 U.S.C. 1600 et seq.

Abstract: Management activities to address the threats and impacts of invasive species across the National Forest System are guided by a general, broad policy articulated in the proposed Forest Service Manual 2900 (NFS Invasive Species Management). The specific requirements, standards, criteria, rules, and guidelines for Forest Service staff to effectively manage invasive species on NFS lands will be provided in a handbook which will tier to FSM 2900. The proposed handbook will be issued through the Directives system.

Timetable:

Action | Date | FR Cite
NPRM | 07/00/14 |

Regulatory Flexibility Analysis Required: No.

Agency Contact: LaRenda C. King, Assistant Director, Directives and Regulations, Department of Agriculture, Forest Service, ATTN: ORMS, D&R Branch, 1400 Independence Avenue SW., Washington, DC 20250-0003, Phone: 202 205-6560, Email: larendacking@fs.fed.us.

RIN: 0596-AD05

DEPARTMENT OF AGRICULTURE (USDA)

Forest Service (FS)

Final Rule Stage

38. Land Management Planning Rule Policy

Legal Authority: 5 U.S.C. 302; 16 U.S.C. 1604; 16 U.S.C. 1613

Abstract: The Forest Service promulgated a new Land Management Planning rule in April 2012. This rule streamlined the Forest Service's paperwork requirements and expanded the public participation requirements for revising National Forest's Land Management Plans. The proposed directives will update the current directives, which provide Forest Service internal guidance on how to implement the 2012 planning rule. The directives will allow full implementation of the Land Management Planning rule, which will enable the Forest Service to reduce the time to revise expired plans from 4 to 5 years to 2 to 3 years. These directives, once finalized, will enable the National Forests to revise their management plans under the new rule.

Timetable:

Action | Date | FR Cite
Proposed Rule | 02/27/13 | 78 FR 13316
Comment Period End | 04/29/13 |
Final Rule | 02/00/14 |

Regulatory Flexibility Analysis Required: No.

Agency Contact: LaRenda C. King, Assistant Director, Directives and Regulations, Department of Agriculture, Forest Service, ATTN: ORMS, D&R Branch, 1400 Independence Avenue SW., Washington, DC 20250-0003, Phone: 202 205-6560, Email: larendacking@fs.fed.us.

RIN: 0596-AD06

DEPARTMENT OF AGRICULTURE (USDA)

Office of Procurement and Property Management (OPPM)

Completed Actions

39. Designation of Biobased Items for Federal Procurement, Round 10

Legal Authority: Public Law 110-246

Abstract: Designates for preferred procurement: Adhesives; aircraft and boat cleaners; automotive care products; body care products-body powders; engine crankcase oil; exterior paints and coatings; facial care products; gasoline fuel additives; hair removal-depilatory products; metal cleaners and corrosion removers; microbial cleaning products; paint removers; paper products; sanitary tissues; water turbine bearing oils; and asphalt roofing materials—low slope.

Completed:

Reason | Date | FR Cite
NPRM | 12/05/12 | 77 FR 72653
Final Rule | 06/11/13 | 78 FR 34867
Final Rule Effective | 06/11/13 |

Regulatory Flexibility Analysis Required: Yes.

Agency Contact: Ron Buckhalt, Phone: 202 205-4008, Fax: 202 720-8972, Email: ronb.buckhalt@dm.usda.gov.

RIN: 0599-AA16

[FR Doc. 2013-17053 Filed 7-22-13; 8:45 am]

BILLING CODE 3410-90-P